DEPARTMENT OF ENERGY

Federal Energy Regulatory Commission

[Docket No. CP01-107-000]

Transcontinental Gas Pipe Line Corporation; Notice of Application

March 23, 2001.

Take notice that on March 9, 2001, Transcontinental Gas Pipe Line Corporation (Transco), P.O. Box 1396, Houston, Texas, 77251, filed in docket No. CP01-107-000 an application pursuant to Sections 7(b) of the National Gas Act, as amended, and Subpart F of the Regulations of the Federal Energy Regulatory Commission's (Commission) thereunder, for permission and approval to abandon the natural gas storage service provided to Delmarva Power & Light Company (Delmarva) under Transco's Rate Schedule S-2, all as more fully set forth in the application which is on file with the Commission and open to public inspection. This filing may be viewed at http://www.ferc.fed.us/online/rims.htm (call 202-208-2222 for assistance).

Transco states that it does not propose to abandon any facility pursuant to the authority Transco seeks herein. Transco asserts that no service to any of its customers will be affected by the abandonment authorization requested herein. Further, Transco asserts that by letter dated February 22, 2000, Delmarva agreed to terminate the storage service agreement effective April 15, 2001.

Any person desiring to be heard or to make any protest with reference to said application should on or before April 13, 2001, file with the Federal Energy Regulatory Commission, Washington, D.C. 20426, a petition to intervene or a protest in accordance with the requirements of the Commission's rules of Practice and Procedure (18 CFR 385.214 or 385.211) and the regulations under the Natural Gas Act (18 CFR 157.10). All protests filed with the Commission will be considered by it in determining the appropriate action to be taken but will not serve to make the protestants parties to the proceeding.

Any person wishing to become a party to the proceeding or to participate as a party in any hearing therein must file a petition to intervene in accordance with the Commission's Rules. Any questions regarding this application for Transco should be directed to Mr. Randall R. Conklin, Vice President and General Counsel, P.O. Box 1396, Houston, Texas 77251-1396 at (713) 215-2000.

Comments, protests, and interventions may be filed electronically via the Internet in lieu of paper. See, 18 CFR 385.2001(a)(1)(iii) and the instructions on the Commission's web site at http://www.ferc.fed.us/efi/doorbell.htm.

Take further notice that, pursuant to the authority contained in and subject to t he jurisdiction conferred upon the Federal Energy Regulatory Commission by Sections 7 and 15 of the Natural Gas Act and the Commission's Rules of Practice and Procedure, a hearing will be held without further notice before the Commission on this application if no petition to intervene is filed within the time required herein, and if the Commission on its own review of the matter finds that the abandonment is required by the public convenience and necessity. If a petition for leave to intervene is timely filed, or if the Commission on its motion believes that a formal hearing is required, further notice of such hearing will be duly given.

Under the procedure herein provided for, unless otherwise advised, it will be unnecessary for Applicants to appear or be represented at the hearing.

David P. Boergers,
Secretary.

[FR Doc. 01-7714 Filed 3-28-01; 8:45 am]

BILLING CODE 6717-01-M